INTERNATIONAL TRADE COMMISSION

[Investigation No. 337-TA-932]

Certain Consumer Electronics and Display Devices With Graphics Processing and Graphics Processing Units Therein Commission Decision Not To Review the ALJ's Final Initial Determination Finding No Violation of Section 337; Termination of Investigation

AGENCY: U.S. International Trade Commission.

ACTION: Notice.

SUMMARY: Notice is hereby given that the U.S. International Trade Commission has determined not to review the final initial determination (ID) issued on October 9, 2015, which found no violation of section 337 of the Tariff Act of 1930, 19 U.S.C. 1337, in this investigation.

FOR FURTHER INFORMATION CONTACT: Ron Traud, Office of the General Counsel, U.S. International Trade Commission, 500 E Street SW., Washington, DC 20436, telephone (202) 205-3427. Copies of non-confidential documents filed in connection with this investigation are or will be available for inspection during official business hours (8:45 a.m. to 5:15 p.m.) in the Office of the Secretary, U.S. International Trade Commission, 500 E Street SW., Washington, DC 20436, telephone (202) 205-2000.

General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation based on a complaint filed by NVIDIA Corporation of Santa Clara, California (NVIDIA). The investigation was instituted to determine whether there is a violation of subsection (a)(1)(B) of section 337 in the importation into the United States, the sale for importation, or the sale within the United States after importation of certain consumer electronics and display devices with graphics processing and graphics processing units therein by reason of infringement of one or more of claims 1, 19, and 20 of U.S. Patent No. 6,198,488 (the '488 patent); claims 1 29 of U.S. Patent No. 6,992,667 (the '667 patent); claims 1 5, 7 19, 21 23, 25 30, 34 36, 38, and 41 43 of U.S. Patent No. 7,038,685 (the '685 patent); claims 5 8, 10, 12 20, and 24 27 of U.S. Patent No. 7,015,913 (the '913 patent); claims 7, 8, 11 13, 16 21, 23, 24, 28, and 29 of U.S. Patent No. 6,697,063 (the '063 patent); claims 1 10, 12, and 14 of U.S. Patent No. 7,209,140 (the '140 patent); and claims 1 6, 9 16, and 19 25 of U.S. Patent No. 6,690,372 (the '372 patent), and whether an industry in the United States exists as required by subsection (a)(2) of section 337. 79 FR 61338 (Oct. 10, 2014). Respondents include Samsung Electronics Co., Ltd. (Republic of Korea); Samsung Electronics America, Inc. (Ridgefield Park, NJ); Samsung Telecommunications America, LLC (Richardson, TX); Samsung Semiconductor, Inc. (San Jose, CA); and Qualcomm, Inc. (San Diego, CA) (collectively, Respondents). NVIDIA later withdrew all allegations regarding the '488, '667, '913, and '063 patents and some allegations regarding the '140, '372, and '685 patents.

On October 9, 2015, the presiding administrative law judge (ALJ) issued his ID finding no violation by Respondents of section 337 with respect to the remaining allegations. Specifically, regarding the `140 patent, the ID concluded: (1) Claim 14 is invalid for obviousness; (2) the accused products do not infringe; and (3) there is no domestic industry. Regarding the `372 patent, the ID concluded: (1) Claim 23 and claim 24 are invalid for anticipation; (2) some of the accused products infringe claim 23, but none of the accused products infringe claim 24; and (3) there is no domestic industry. Regarding the `685 patent, the ID concluded: (1) Neither claim 1 nor claim 15 are invalid for anticipation; (2) the accused products do not infringe claim 1 or claim 15; and (3) there is a domestic industry. The ID additionally found that the scope of this investigation is limited to consumer electronics and display devices that include graphics processing capabilities and that have graphics processing units therein, rejecting NVIDIA's argument to include Qualcomm graphics processing units separate and apart from the consumer electronic and display devices.

On October 26, 2015, NVIDIA filed a petition for review of the ALJ's findings related to the '372 and '685 patents, and Respondents filed a contingent petition for review of the ALJ's findings related to the '140 and '685 patents. NVIDIA did not seek review of the ALJ's findings related to the '140 patent. On October 30, 2015, the ALJ issued his recommended determination on remedy and bond. On November 3, 2015, NVIDIA, Respondents, and the Office of Unfair Import Investigations filed responses to the petitions and contingent petitions. Having examined the record of this investigation, including the ID, the petition for review, the contingent petition thereto, and the respective responses, the Commission has determined not to review the ID.

On September 24, 2015, NVIDIA filed an Unopposed Motion to Terminate the Investigation as to Respondent Samsung Telecommunications America, LLC. We have reviewed the motion, and it is granted.

The authority for the Commission's determination is contained in section 337 of the Tariff Act of 1930, as amended (19 U.S.C. 1337), and in sections 210.42 46 of the Commission's Rules of Practice and Procedure (19 CFR 210.42 46).

By order of the Commission.
Issued: December 14, 2015.
Lisa R. Barton,
Secretary to the Commission.

[FR Doc. 2015-31816 Filed 12-17-15; 8:45 am]

BILLING CODE 7020-02-P